RAILROAD RETIREMENT BOARD

Correction to Agency Forms Submitted for OMB Review, Request for Comments

SUMMARY: In the document appearing on page 70905, FR Doc. E7-24153, Agency Forms Submitted for OMB Review, Request for Comments dated December 13, 2007, the Railroad Retirement Board is making a correction to a sentence referencing Form RL-380-F, Report of Medicaid State Office on Beneficiary's In Status, in the SUMMARY section. As published, the document contains an error that is misleading to the public.

Correction of Publication: In the SUMMARY section, the sentence which reads “Completion of Form RL-380-F is voluntary”, is corrected to read “Completion of Form RL-380-F is mandatory”.

Charles Mierzwa,
Clearance Officer.

[FR Doc. E7-25432 Filed 12-31-07; 8:45 am]

BILLING CODE 7905-01-P